DEPARTMENT OF COMMERCE

National Oceanic and Atmospheric Administration

[I.D. 031705F]

Fisheries of the Exclusive Economic Zone Off Alaska; Groundfish Fisheries Management in the Bering Sea and Aleutian Islands Management Area and the Gulf of Alaska

AGENCY: National Marine Fisheries Service (NMFS), National Oceanic and Atmospheric Administration (NOAA), Commerce.

ACTION: Notice of availability; request for comments.

SUMMARY: The North Pacific Fishery Management Council (Council) has submitted for Secretary of Commerce (Secretary) review Amendment 83 to the Fishery Management Plan (FMP) for Groundfish of the Bering Sea and Aleutian Islands Management Area (BSAI) and Amendment 75 to the FMP for Groundfish of the Gulf of Alaska (GOA). If approved, the amendments would provide housekeeping revisions to the FMPs. The proposed revisions would update harvest, ecosystem, and socioeconomic information, consolidate text, and reorganize the documents. The intent of this action is to provide more recent information in the FMPs and to make them easier to read. This action will promote the goals and objectives of the Magnuson-Stevens Fishery Conservation and Management Act (Magnuson-Stevens Act), the FMPs, and other applicable laws. Comments from the public are welcome.

DATES: Written comments on Amendments 83 and 75 must be received by May 23, 2005.

ADDRESSES: Send comments to Sue Salveson, Assistant Regional Administrator, Sustainable Fisheries Division, Alaska Region, NMFS, Attn: Lori Durall. Comments may be submitted by:

• Mail to P.O. Box 21668, Juneau, AK 99802;

• Hand delivery to the Federal Building, 709 West 9th Street, Room 420A, Juneau, AK;

• FAX to 907-586-7557; or

• E-mail to 8375noa@noaa.gov. Include in the subject line the following document identifier: 83-75 NOA. E-mail comments, with or without attachments, are limited to 5 megabytes.

Copies of Amendments 83 and 75 may be obtained from the NMFS Alaska Region at the address above or from the Alaska Region website at http://www.fakr.noaa.gov.

FOR FURTHER INFORMATION CONTACT: Melanie Brown, phone: 907-586-7228 or e-mail: melanie.brown@noaa.gov.

SUPPLEMENTARY INFORMATION: The Magnuson-Stevens Act requires that the Council submit any FMP amendment it prepares to the Secretary for review and approval, disapproval, or partial approval. The Magnuson-Stevens Act also requires that the Secretary, upon receiving an FMP amendment, immediately publish a notice in the Federal Register that the amendment is available for public review and comment.

The Council prepared and the Secretary approved the FMP for Groundfish of the GOA in 1978 and the FMP for Groundfish of the BSAI in 1981. Both FMPs have been amended numerous times.

Amendments 83 and 75 were unanimously recommended by the Council in December 2004. If approved by the Secretary, these amendments would: (1) update harvest, ecosystem, and socioeconomic information, (2) consolidate text, and (3) reorganize the documents. The intent of this action is to provide more recent information in the FMPs and to make them easier to read.

The Council also recommended revising the harvest specifications process set forth in the FMPs to be consistent with Amendments 81 and 74 to the FMPs (69 FR 31091, June 2, 2004). These amendments were approved by the Secretary in August 2004. Amendments 81 and 74 added new policy objectives to the FMPs, including the objective to adopt conservative harvest levels for multi-species and single species fisheries. Amendments 83 and 75 would amend the FMPs' description of the harvest specifications process by adding the provision that total allowable catch for species or species groups be set equal to or less than the acceptable biological catch. This revision would ensure that harvest levels are set conservatively and consistent with the FMP management policy and objectives to prevent overfishing.

Public comments are being solicited on proposed Amendments 83 and 75 through the end of the comment period stated (see DATES). All comments received by the end of the comment period on the amendments will be considered in the approval/partial approval/disapproval decision. Comments received after that date will not be considered in the approval/partial approval/disapproval decision on the amendments. To be considered, written comments must be received not just postmarked or otherwise transmitted by the close of business on the last day of the comment period.

Dated: March 18, 2005.
Alan D. Risenhoover,
Acting Director, Office of Sustainable Fisheries, National Marine Fisheries Service.

[FR Doc. 05-5858 Filed 3-23-05; 8:45 am]

BILLING CODE 3510-22-S